SECURITIES AND EXCHANGE COMMISSION

Issuer Delisting; Notice of Application to Withdraw From Listing and Registration; (BriteSmile Inc., Common Stock, Par Value $.001 per Share) File No. 1-11064

April 6, 2000.

BriteSmile, Inc. (“Company”), has filed an application with the Securities and Exchange Commission (“Commission”), pursuant to Section 12(d) of the Securities Exchange Act of 1934 (“Act”) ¹ and Rule 12d2-2(d) thereunder,² to withdraw the security described above (“Security”) from listing and registration on the American Stock Exchange LLC (“Amex”).

¹ 15 U.S.C 781(d).

² 17 CFR 240.12d2-2(d).

The Security has been listed and registered on the Amex pursuant to Section 12(b) of the Act.³ The Company now desires to have its Security trade on the Nasdaq Stock Market, Inc. (“Nasdaq”). Accordingly, the Company has filed a Registration Statement on Form 8-A with the Commission pursuant to Section 12(g) of the Act,⁴ and the Company has stated that the Security is scheduled to begin trading on the Nasdaq National Market, and simultaneously be suspended from trading on the Amex, at the opening of business on April 7, 2000. In conjunction with the transfer of trading from the Amex to the Nasdaq, the Company is seeking to withdraw its Security from listing and registration on the Amex in order to avoid both the costs of maintaining dual listings and the potential fragmentation of the market for its Security.

³ 15 U.S.C. 78l(b).

⁴ 15 U.S.C. 78l(g).

The Company has stated that it has complied with the Rule of the Amex governing the withdrawal of its Security from listing and registration on the Amex and that the Amex, in turn has indicated that it will not oppose such withdrawal.

The Company's application relates solely to the withdrawal of the Security from listing and registration on the Amex and shall have no effect upon the Security's designation for quotation and trading on the Nasdaq National Market. By reason of Section 12(g) of the Act ⁵ and the rules and regulations of the Commission thereunder, the Company shall continue to be obligated to file reports with the Commission required by Section 13 of the Act. ⁶

⁵ Id.

⁶ 15 U.S.C. 78m.

Any interested person may, on or before April 27, 2000, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority. ⁷

⁷ 17 CFR 200.30-2(a)(1).

Jonathan G. Katz,
Secretary.

[FR Doc. 00-9182 Filed 4-12-00; 8:45 am]

BILLING CODE 8010-01-M